DEPARTMENT OF THE INTERIOR

Bureau of Reclamation

Glen Canyon Dam Adaptive Management Program

AGENCY: Bureau of Reclamation, Interior.

ACTION: Notice of Development of Experimental Protocol for High-Flow Releases from Glen Canyon Dam under the Authority of the Secretary of the Interior (Secretary), Development of Environmental Assessment, and Notice of Public Meeting.

SUMMARY: On December 10, 2009, Secretary of the Interior Ken Salazar announced that the Department of the Interior (Department) would initiate development of a High-Flow Experimental Protocol (Protocol) for releases from Glen Canyon Dam as part of the ongoing implementation of the Glen Canyon Dam Adaptive Management Program (AMP). High-flow experimental releases have been undertaken in the past and will be further analyzed and implemented pursuant to the direction of the Secretary to assess the ability of such releases to protect, mitigate adverse impacts to, and improve the values for which Grand Canyon National Park and Glen Canyon National Recreation Area were established. As part of the AMP, the Department's effort to develop the Protocol is a component of its efforts to comply with the requirements and obligations established by the Grand Canyon Protection Act of 1992 (Pub. L. 102-575) (GCPA).

The AMP was established by, and has been implemented pursuant to the Secretary of the Interior's 1996 Record of Decision on the Operation of Glen Canyon Dam, in order to comply with monitoring and consultation requirements of the GCPA. The AMP includes a Federal advisory committee known as the Adaptive Management Work Group (AMWG), a technical work group, a scientific monitoring and research center, and independent review panels. The AMWG makes recommendations to the Secretary of the Interior concerning Glen Canyon Dam operations and other management actions to protect resources downstream of Glen Canyon Dam consistent with the GCPA.

This Federal Register notice provides the public with initial information regarding the anticipated development and purpose of the High-Flow Experimental Protocol, notice of the Department's commitment to analyze the Protocol pursuant to the National Environmental Policy Act (NEPA), as well as information regarding an upcoming AMWG public meeting that will address, in part, the development of the Protocol. Additional information regarding the dates and times for the upcoming AMWG public meeting and the development of the Protocol will be provided in a future Federal Register notice, as well as through other methods of public involvement as the NEPA process is undertaken and the Protocol is developed and analyzed.

FOR FURTHER INFORMATION CONTACT: Mr. Tom Ryan, Bureau of Reclamation, telephone (801) 524-3732; facsimile (801) 524-5499; e-mail at protocol@usbr.gov.

SUPPLEMENTARY INFORMATION: On December 10, 2009, Secretary of the Interior Ken Salazar directed the development of a protocol for conducting additional high-flow experiments from Glen Canyon Dam as part of the ongoing implementation of the Glen Canyon Dam AMP. The text of the Secretary's statement and further information on his direction can be found at http://www.doi.gov.

High-Flow Experimental Protocol and Sediment Resources

Sandbars are a primary component of the Colorado River ecosystem, and determining how sand conservation can be achieved in areas within Grand Canyon National Park downstream of Glen Canyon Dam is a high priority of the AMP and the Department of the Interior. Previous high-flow experiments from Glen Canyon Dam were conducted in 1996, 2004, and 2008. Experimental high flows mobilize sand stored in the main channel of the Colorado River to rebuild sandbars, beaches, and associated backwater habitats along shorelines. Sandbars provide key wildlife habitat, protect archeological sites and vegetation structure, and provide camping opportunities in Grand Canyon.

Each experimental release has added to the understanding of the river ecosystem below the dam and the impacts of high-flow releases. Following the initial test in 1996, experimental approaches linking high-flow releases from Glen Canyon Dam to downstream tributary sand inputs to Grand Canyon were developed by scientists working in collaboration with the AMP. See e.g., 66 FR 7772, 7778 (January 25, 2001) (Riverflow Issues). One of the best tools available for rebuilding sandbars using dam operations is to release short-duration high flows after tributary floods deposit new sand into the main channel of the Colorado River. Development and implementation of the Protocol builds on information developed in the previous three high-flow experiments, and will be designed to further evaluate the hypothesis that repeated high-flow releases conducted under conditions of sand enrichment in Grand Canyon may result in cumulative increases in sandbar area and volume. The Protocol constitutes the next logical step in adaptive management with respect to high flow testing.

Anticipated Approach Regarding Development of High-Flow Experimental Protocol

The Department intends to develop the High-Flow Experimental Protocol through a public process pursuant to NEPA, through the development of an Environmental Assessment (EA). The Protocol is anticipated to be a multi-year, multi-experiment approach and will be based on the best available scientific information developed through the AMP as well as other sources of relevant information. For example, in early 2010, it is anticipated that the U.S. Geological Survey will publish detailed information that provides a full and thorough analysis of the results of the most recent high-flow experimental release conducted in March 2008. It is anticipated that the Protocol will address such factors as the appropriate number of experiments, the appropriate sand input “triggering” for conducting future experiments, the timing and duration of high-flow releases to optimize sand conservation, the appropriate interval between high-flow releases, as well as the anticipated approach to monitoring the results and effectiveness of the experimental actions, among other resource issues.

The Department is currently developing a tribal consultation policy for matters related to the Glen Canyon Dam AMP. The Department will continue to consult with local affected tribes, including through the tribal consultation policy, to ensure the AMP and the Protocol take into account the United States' trust responsibility to the tribes and their natural resources. There will be a consistent and ongoing effort to consult with the tribes in development of the Protocol, and in implementation of any subsequent related decisions.

Consistent with the provisions of 43 CFR 46.305 (public involvement in the environmental assessment process), the Department “must, to the extent practicable, provide for public notification and public involvement when an environmental assessment is being prepared.” This Federal Register notice is the first of many steps that the Department intends to take to ensure public input in the development of the Protocol and the NEPA process. The Department will next provide additional information on the Protocol and the EA process at a public AMWG meeting in Phoenix, Arizona, on February 3-4, 2010. Additional information regarding this upcoming AMWG meeting (including times, location, and agenda items) will be provided to the public in an upcoming Federal Register notice. The AMWG meeting is intended to provide scoping information for the EA process. Although scoping is not required for the preparation of an EA (CEQ regulations at 40 CFR 1501.7 specifically reference the preparation of an environmental impact statement), the Department recognizes and encourages the use of scoping where appropriate as it does represent a form of public involvement. See 43 CFR 46.305(a)(2), 73 FR 61292, 61306 (Oct. 15, 2008).

Further information regarding the development of the High-Flow Experimental Protocol, the EA process, and other relevant information will also be made available to the public through the AMP's Web site which may be accessed at http://www.usbr.gov/uc/rm/amp/.

Dated: December 22, 2009.
Anne Castle,
Assistant Secretary—Water & Science.

[FR Doc. E9-31050 Filed 12-30-09; 8:45 am]

BILLING CODE 4310-MN-P